DEPARTMENT OF THE INTERIOR

National Park Service

[NPS-WASO-NAGPRA-NPS0040122; PPWOCRADN0-PCU00RP14.R50000]

Notice of Intended Disposition: Space Launch Deta 45, United States Space Force, Patrick Space Force Base, FL

AGENCY: National Park Service, Department of the Interior.

ACTION: Notice.

SUMMARY: In accordance with the Native American Graves Protection and Repatriation Act (NAGPRA), the Space Launch Deta 45, United States Space Force (SLD 45, USSF) intends to carry out the disposition of human remains and associated funerary objects removed from Federal land to the lineal descendants, Indian Tribe, or Native Hawaiian organization with priority for disposition in this notice.

DATES: Disposition of the human remains and associated funerary objects in this notice may occur on or after June 13, 2025. If no claim for disposition is received by May 14, 2026, the human remains and associated funerary objects in this notice will become unclaimed human remains and associated funerary objects.

ADDRESSES: Thomas E. Penders, SLD 45, USSF, 1224 Jupiter Street, Patrick Space Force Base, FL 32925, telephone (321) 307-0075, email thomas.penders@spaceforce.mil.

SUPPLEMENTARY INFORMATION: This notice is published as part of the National Park Service's administrative responsibilities under NAGPRA. The determinations in this notice are the sole responsibility of the SLD 45, USSF and additional information on the human remains or cultural items in this notice, including the results of consultation, can be found in the related records. The National Park Service is not responsible for the identifications in this notice.

Abstract of Information Available

Based on the information available, human remains representing, at least, one individual have been reasonably identified (one adult tooth). The human tooth was not found in association with other human remains or materials that may be ceremonial in nature and is considered to be a tooth lost in life. The associated 91 funerary objects are 54 medium mammal elements, 29 unidentified fauna long bone fragments, four shark and ray elements, one catfish element, one turtle carapace element, and two bony fish elements. Of these a medium mammal long bone was found in direct association with the human tooth. The ancestral remains were recovered from 10-80 centimeters in depth from a single shovel test pit from Gulbreansen Mound Site (8BR87) on Cape Canaveral Space Force Station, Brevard County, Florida.

Determinations

The SLD 45, USSF has determined that:

• The human remains described in this notice represent the physical remains of one individual of Native American ancestry.

• The 91 objects described in this notice are not reasonably believed to have been placed intentionally with or near individual human remains or ceremony.

• The Miccosukee Tribe of Indians; Seminole Tribe of Florida; and The Seminole Nation of Oklahoma have priority for disposition of the human remains and associated funerary objects described in this notice.

Claims for Disposition

Written claims for disposition of the human remains and associated funerary objects in this notice must be sent to the appropriate official identified in this notice under ADDRESSES. If no claim for disposition is received by May 14, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after June 13, 2025. If competing claims for disposition are received, the SLD 45, USSF must determine the most appropriate claimant prior to disposition. Requests for joint disposition of the human remains and associated funerary objects are considered a single request and not competing requests. The SLD 45, USSF is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: April 30, 2025.
Melanie O'Brien,
Manager, National NAGPRA Program.

[FR Doc. 2025-08476 Filed 5-13-25; 8:45 am]

BILLING CODE 4312-52-P